INTERNATIONAL TRADE COMMISSION

[Investigation No. 731-TA-1135 (Final)]

Sodium Metal from France

AGENCY: United States International Trade Commission.

ACTION: Revised schedule for the subject investigation.

DATES: Effective Date: September 4, 2008.

FOR FURTHER INFORMATION CONTACT: Nathanael Comly (202-205-3174), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS) at http://edis.usitc.gov.

SUPPLEMENTARY INFORMATION: On May 28, 2008, the Commission established a schedule for the conduct of the final phase of the subject investigation (73 FR 33115, June 11, 2008). The Commission is revising its schedule.

The Commission's new schedule for the investigation is as follows: the prehearing staff report will be placed in the nonpublic record on September 26, 2008; the deadline for filing prehearing briefs is October 6, 2008.

For further information concerning this investigation see the Commission's notice cited above and the Commission's Rules of Practice and Procedure, part 201, subparts A through E (19 CFR part 201), and part 207, subparts A and C (19 CFR part 207).

Authority: This investigation is being conducted under authority of title VII of the Tariff Act of 1930; this notice is published pursuant to section 207.21 of the Commission's rules.

By order of the Commission.
Issued: September 5, 2008.
Marilyn R. Abbott,
Secretary to the Commission.

[FR Doc. E8-21097 Filed 9-10-08; 8:45 am]

BILLING CODE 7020-02-P